DEPARTMENT OF TRANSPORTATION

Surface Transportation Board

[STB Ex Parte No. 282 (Sub-No. 20)]

Railroad Consolidation Procedures—Exemption for Temporary Trackage Rights

AGENCY: Surface Transportation Board, DoT.

ACTION: Notice; amendment of final decision.

SUMMARY: By decision served on May 23, 2003, the Board amended its rules at 49 CFR part 1180 to adopt a new class exemption for trackage rights proposals that are limited to overhead operations and which expire on a date certain, not to exceed 1 year from the effective date of the exemption. The final rule was published in the Federal Register on May 23, 2003, 68 FR 28139-40. In the final decision, the Board stated that approval of temporary trackage rights agreements under 49 U.S.C. 11323 must include the employee protective conditions set forth in Norfolk and Western Ry. Co.—Trackage Rights—BN, 354 I.C.C. 605 (1978), as modified by Mendocino Coast Ry., Inc.—Lease and Operate, 360 I.C.C. 653 (1980), aff'd sub nom. Railway Labor Executives' Ass'n v. United States, 675 F.2d 1248 (D.C. Cir. 1982) (Norfolk and Western conditions). In accordance with a recent decision of the United States Court of Appeals for the District of Columbia in United Transportation Union—General Committee of Adjustment (GO-386) v. Surface Transportation Board, 363 F.3d 465 (D.C. Cir. 2004), the Board now amends its final decision to require not only the imposition of the Norfolk and Western conditions on the acquisition of temporary trackage rights under the new rule, but also the imposition of the employee protective conditions set forth in Oregon Short Line R.R. Co.—Abandonment—Goshen, 360 I.C.C. 91 (1979), for the discontinuance component of temporary trackage rights authority. The decision will be included in the bound volumes of the STB printed reports at a later date.

DATES: Petitions to reopen must be filed by June 7, 2004.

FOR FURTHER INFORMATION CONTACT: Joseph H. Dettmar, (202) 565-1600. [Assistance for the hearing impaired is available through the Federal Information Relay Service (FIRS) at 1-800-877-8339.]

SUPPLEMENTARY INFORMATION: Additional information is contained in the Board's decision. To purchase a copy of the full decision, write to, call, or pick up in person from: ASAP Document Solutions, 9332 Annapolis Road, Suite 103, Lanham, MD 20706. Telephone: (301) 577-2600. [FIRS for the hearing impaired: 1-800-877-8339.]

Board decisions and notices are available on our Web site at http://www.stb.dot.gov.

Decided: May 10, 2004.
By the Board, Chairman Nober.
Vernon A. Williams,
Secretary.

[FR Doc. 04-10972 Filed 5-14-04; 8:45 am]

BILLING CODE 4915-01-P